DEPARTMENT OF TRANSPORTATION

Surface Transportation Board

[Docket No. FD 35753]

Illinois Central Railroad Company—Trackage Rights Exemption—BNSF Railway Company

BNSF Railway Company (BNSF), pursuant to a written trackage rights agreement dated June 17, 2013, has agreed to grant overhead trackage rights to Illinois Central Railroad Company (IC), a wholly owned, indirect subsidiary of Canadian National Railway Company, over BNSF's Thayer South Subdivision, between milepost 483.8 at CN Junction and milepost 485.8 at KC Junction in Memphis, Shelby County, Tenn., a distance of approximately 2.0 miles.¹

¹ A redacted trackage rights agreement between IC and BNSF was filed with the notice of exemption. An unredacted version was filed under seal along with a motion for protective order, which will be addressed in a separate decision.

The transaction is scheduled to be consummated on or after August 30, 2013, the effective date of the exemption (30 days after the exemption was filed).

The purpose of the transaction is to permit IC to interchange loaded and empty cars with the Norfolk Southern Railroad Company (NS) at NS's Forrest Yard.

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980). This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed by August 23, 2013 (at least 7 days before the exemption becomes effective).

An original and 10 copies of all pleadings, referring to Docket No. FD 35753, must be filed with the Surface Transportation Board, 395 E Street SW., Washington, DC 20423-0001. In addition, a copy of each pleading must be served on Audrey L. Brodrick, Fletcher & Sippel LLC, 29 North Wacker Drive, Suite 920, Chicago, IL 60606-2832.

Board decisions and notices are available on our Web site at “www.stb.dot.gov.”

Decided: August 13, 2013.
By the Board, Rachel D. Campbell, Director, Office of Proceedings.
Jeffrey Herzig,
Clearance Clerk.

[FR Doc. 2013-19937 Filed 8-15-13; 8:45 am]

BILLING CODE 4915-01-P